DEPARTMENT OF THE INTERIOR

Bureau of Indian Affairs

Notice of Intent To Prepare an Environmental Impact Statement for the Proposed Cloverdale Rancheria of Pomo Indians Fee-to-Trust Acquisition and Casino-Hotel Project, Sonoma County, CA

AGENCY: Bureau of Indian Affairs, Interior.

ACTION: Notice.

SUMMARY: This notice advises the public that the Bureau of Indian Affairs (BIA), as lead agency, with the Cloverdale Rancheria of Pomo Indians (Tribe) as a cooperating agency, intends to gather information necessary for preparing an Environmental Impact Statement (EIS) for a proposed 79± acre fee-to-trust acquisition and casino and hotel project to be located within the City of Cloverdale's Sphere of Influence, in an unincorporated area of Sonoma County, California. The purpose of the proposed action is to help promote tribal economic development, self-sufficiency, and a strong tribal government. This notice also announces a public scoping meeting to identify potential issues, concerns and alternatives to be considered in the EIS.

DATES: Written comments on the scope and implementation of this proposal must arrive by August 11, 2008. A public scoping meeting will be held July 30, 2008, from 6 p.m. to 9 p.m., or until all those who register to make comments have been heard.

ADDRESSES: You may mail or hand carry written comments to Dale Morris, Regional Director, Pacific Regional Office, Bureau of Indian Affairs, 2800 Cottage Way, Sacramento, California 95825. Please include your name, return address and the caption, “DEIS Scoping Comments, Cloverdale Rancheria of Pomo Indians, 79± Acre Fee to Trust Casino/Hotel Project, Sonoma County, California,” on the first page of your written comments.

The public scoping meeting will be held at the Cloverdale City Citrus Fairgrounds, Citrus Fair Drive, Number 1, Cloverdale, California.

FOR FURTHER INFORMATION CONTACT: John Rydzik, (916) 978-6051.

SUPPLEMENTARY INFORMATION: The Tribe proposes that 79± acres of land be taken into trust and that a casino, with parking and other supporting facilities, subsequently be constructed on the acquired trust property. The 79± acres encompass four parcels of land located within the City of Cloverdale's Sphere of Influence, in an unincorporated area of Sonoma County, California. The proposed project site is located immediately east of Highway 101, bordered by Asti Road to the west and Lile Lane to the northeast. Santana Drive runs parallel with the southern boundary of the proposed project site. Regional access to the proposed casino complex would be from South Cloverdale Boulevard via Highway 101.

The Proposed Action includes the development of a casino complex, which would consist of a combination of uses including, but not limited to a main gaming hall, hotel, and supporting utilities. Driveways along Lile Lane and Asti Road would provide access to the parking areas and the casino.

Areas of environmental concern so far identified to be addressed in the EIS include land use, geology and soils, water resources, agricultural resources, biological resources, cultural resources, mineral resources, paleontological resources, traffic and transportation, noise, air quality, public health/environmental hazards, public services and utilities, hazardous waste and materials, socio-economics, environmental justice, and visual resources/aesthetics. In addition to the proposed action, a reasonable range of alternatives, including a no-action alternative, will be analyzed in the EIS. The range of issues and alternatives may be expanded based on comments received during the scoping process.

Public Comment Availability

Comments, including names and addresses of respondents, will be available for public review at the mailing address shown in the ADDRESSES section, during regular business hours, 8 a.m. to 4:30 p.m., Monday through Friday, except holidays. Before including your address, phone number, e-mail address or other personal identifying information in your comment, you should be aware that your entire comment—including your personal identifying information—may be made publicly available at any time. While you can ask us in your comment to withhold your personal identifying information from public review, we cannot guarantee that we will be able to do so.

Authority

This notice is published in accordance with sections 1501.7 and 1506.6 of the Council of Environmental Quality regulations (40 CFR parts 1500 through 1508) implementing the procedural requirements of the National Environmental Policy Act of 1969, as amended (42 U.S.C. 4371 et seq.), the Department of the Interior Manual (516 DM 1-6), and is in the exercise of authority delegated to the Assistant Secretary—Indian Affairs by 209 DM 8.1.

Dated: May 20, 2008.
Carl J. Artman,
Assistant Secretary—Indian Affairs.

[FR Doc. E8-15204 Filed 7-3-08; 8:45 am]

BILLING CODE 4310-W7-P